DEPARTMENT OF THE INTERIOR

National Park Service

[NPS-WASO-NAGPRA-NPS0036325; PPWOCRADN0-PCU00RP14.R50000]

Notice of Inventory Completion: California Department of Parks and Recreation, Sacramento, CA, and California State University, Chico, Chico, CA

AGENCY: National Park Service, Interior.

ACTION: Notice.

SUMMARY: In accordance with the Native American Graves Protection and Repatriation Act (NAGPRA), the California Department of Parks and Recreation and California State University, Chico have completed an inventory of human remains and associated funerary objects and have determined that there is a cultural affiliation between the human remains and associated funerary objects and Indian Tribes or Native Hawaiian organizations in this notice. The human remains and associated funerary objects were removed from Butte County, CA.

DATES: Repatriation of the human remains and associated funerary objects in this notice may occur on or after September 11, 2023.

ADDRESSES: Leslie Hartzell, Cultural Resources Division at California State Parks 715 P Street, Suite 13, Sacramento, CA 95814, telephone (415) 831-2700, email leslie.hartzell@parks.ca.gov and Dawn Rewolinski, California State University, Chico, 400 W. 1st Street, Chico, CA 95929, telephone (530) 898-3090, email drewolinski@csuchico.edu.

SUPPLEMENTARY INFORMATION: This notice is published as part of the National Park Service's administrative responsibilities under NAGPRA. The determinations in this notice are the sole responsibility of the California Department of Parks and Recreation and California State University, Chico. The National Park Service is not responsible for the determinations in this notice. Additional information on the determinations in this notice, including the results of consultation, can be found in the inventory or related records held by the California Department of Parks and Recreation and California State University, Chico.

Description

CA-BUT-3820/H

Human remains representing, at minimum, two individuals were removed from Butte County, CA. In the spring of 1976, Bidwell Adobe (CA-BUT-3820/H) was excavated by M. Kowta and other archeologists affiliated with California State University, Chico. This site is part of the Bidwell Mansion State Historic Park and under the legal control of the California Department of Parks and Recreation. The human remains, funerary objects, and other items from this excavation are in the custody of California State University, Chico. The 3,822 associated funerary objects are 285 organics, 81 lots consisting of debitage, 15 modified stone fragments, two lots of projectile points, two shell fragments, 1,281 samples of charcoal, one sample of soil, 2,055 faunal elements, 72 modified faunal elements, 20 pieces of clay, three modified fragments of clay, one lot of basalt flakes, one lot of cobble core-tools, one lot of flakes, one lot of beads, and one lot of pestles.

In 1987, Bidwell Adobe (CA-BUT-3820/H) was excavated by Keith Johnson and other archeologists affiliated with California State University, Chico under agreement with the California Department of Parks and Recreation. This site is part of the Bidwell Mansion State Historic Park and under the legal control of California Department of Parks and Recreation. The funerary objects and other items from this excavation are in the custody of the California Department of Parks and Recreation. The five associated funerary objects are one lot of basalt flakes, one lot of flake scrapers, one lot of glass beads, one lot of hammerstone, and one lot of projectiles. There were no human remains recorded.

Human remains representing, at minimum, one individual were removed from Butte County, CA. In 1990, Bidwell Adobe (CA-BUT-3820/H) was excavated by Keith Johnson and other archeologists affiliated with California State University, Chico under agreement with the California Department of Parks and Recreation. This site is part of the Bidwell Mansion State Historic Park and under the legal control of the California Department of Parks and Recreation. The funerary objects and other items from this excavation are in the custody of the California Department of Parks and Recreation. The three associated funerary objects are one lot of basalt flakes, one lot of obsidian flakes, and one lot of projectile points.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, historical, and expert opinion.

Determinations

Pursuant to NAGPRA and its implementing regulations, and after consultation with the appropriate Indian Tribes and Native Hawaiian organizations, the California Department of Parks and Recreation and California State University, Chico have determined that:

• The human remains described in this notice represent the physical remains of three individuals of Native American ancestry.

• The 3,830 objects described in this notice are reasonably believed to have been placed with or near individual human remains at the time of death or later as part of the death rite or ceremony.

• There is a relationship of shared group identity that can be reasonably traced between the human remains and associated funerary objects described in this notice and the Mechoopda Indian Tribe of Chico Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 11, 2023. If competing requests for repatriation are received, the California Department of Parks and Recreation and California State University, Chico must determine the most appropriate requestor prior to repatriation. Requests for joint repatriation of the human remains and associated funerary objects are considered a single request and not competing requests. The California Department of Parks and Recreation and California State University, Chico.is responsible for sending a copy of this notice to the Indian Tribe identified in this notice.

Authority: Native American Graves Protection and Repatriation Act, 25 U.S.C. 3003, and the implementing regulations, 43 CFR 10.9, 10.10, and 10.14.

Dated: August 2, 2023.
Melanie O'Brien,
Manager, National NAGPRA Program.

[FR Doc. 2023-17131 Filed 8-9-23; 8:45 am]

BILLING CODE 4312-52-P